FEDERAL COMMUNICATIONS COMMISSION

47 CFR Part 73

[DA 00-1968; MM Docket No. 99-260; RM-9686]

Radio Broadcasting Services; Bristol, VT

AGENCY: Federal Communications Commission.

ACTION: Final rule.

SUMMARY: The Commission, at the request of Blue Sky Broadcasting, LLC, allots Channel 248A to Bristol, VT, as the community's first local aural service. See 64 FR 3996, July 23, 1999. Channel 248A can be allotted to Bristol in compliance with the Commission's minimum distance separation requirements, with respect to domestic allotments, without the imposition of a site restriction, at coordinates 44-08-18 NL; 73-05-00 WL. Canadian concurrence in the allotment, as a specially negotiated short-spaced allotment, has been received since Bristol is located within 320 kilometers (200 miles) of the U.S.-Canadian border and the allotment will be short-spaced to Station CHOM-FM, Channel 249C1, Montreal, Quebec. A filing window for Channel 248A at Bristol will not be opened at this time. Instead, the issue of opening a filing window for this channel will be addressed by the Commission in a subsequent order.

DATES: Effective October 16, 2000.

ADDRESSES: Federal Communications Commission, Washington, D.C. 20554.

FOR FURTHER INFORMATION CONTACT: Leslie K. Shapiro, Mass Media Bureau, (202) 418-2180.

SUPPLEMENTARY INFORMATION: This is a synopsis of the Commission's Report and Order, MM Docket No. 99-260, adopted August 23, 2000, and released September 1, 2000. The full text of this Commission decision is available for inspection and copying during normal business hours in the FCC Reference Center (Room 239), 445 12th Street, SW., Washington, DC. The complete text of this decision may also be purchased from the Commission's copy contractor, International Transcription Services, Inc., (202) 857-3800, 1231 20th Street, NW, Washington, DC 20036.

List of Subjects in 47 CFR Part 73

Radio broadcasting.

Part 73 of Title 47 of the Code of Federal Regulations is amended as follows:

PART 73—[AMENDED]

1. The authority citation for Part 73 continues to read as follows:

Authority: 47 U.S.C. 154, 303, 334. 336.

§ 73.202 [Amended]

2. Section 73.202(b), the Table of FM Allotments under Vermont, is amended by adding Bristol, Channel 248A.

Federal Communications Commission.
John A. Karousos,
Chief, Allocations Branch, Policy and Rules Division, Mass Media Bureau.

[FR Doc. 00-23694 Filed 9-14-00; 8:45 am]

BILLING CODE 6712-01-P